DEPARTMENT OF EDUCATION

National Educational Research Policy and Priorities Board; Nominations

AGENCY: Department of Education.

ACTION: Acceptance of nominations for membership on the national educational research policy and priorities board (Board).

1. Introduction

The U.S. Department of Education's Office of Educational Research and Improvement (OERI) is authorized by Public Law 103-227 Title IX: the “Educational Research, Development, Dissemination, and Improvement Act of 1994” (the Act). Part B of the Act directs the Secretary to establish, within OERI, a “National Educational Research Policy and Priorities Board.” The Secretary is now accepting nominations of individuals to fill several vacancies on the Board, described below, which are created by expirations of terms.

2. Description of the Board

The Board consists of 15 members appointed by the Secretary. Five members are appointed from researchers in the field of education who have been nominated by the National Academy of Sciences; five are outstanding school-based professional educators; and five are individuals who are knowledgeable about the educational needs of the United States and may include: parents with experience in promoting parental involvement in education, Chief State School Officers, local agency superintendents, principals, members of state or local boards of education or Bureau of Indian Affairs-funded school boards, and individuals from business and industry with experience in promoting private sector involvement with education.

Members of the Board may not serve on any other governing or advisory board within the Department of Education (Department) or as a paid consultant of the Department. The term of office is six years. The Board is required to meet quarterly, at a minimum.

3. Functions of the Board

Section 921(b) of the Act provides that the Board has the responsibility to:

(a) Work collaboratively with the Assistant Secretary to determine priorities that should guide the work of OERI and provide guidance to the Congress in its oversight of OERI;

(b) Review and approve the Research Priorities Plan developed by the Assistant Secretary in collaboration with the Board;

(c) Review and approve standards for the conduct and evaluation of all research, development, and dissemination carried out under the auspices of OERI; and

(d) Review regularly, evaluate, and publicly comment upon the implementation of its recommended priorities and policies by the Department and the Congress.

Additional responsibilities of the Board include:

(1) Providing advice and assistance to the Assistant Secretary in administering the duties of OERI;

(2) Making recommendations to the Assistant Secretary of persons qualified to fulfill the responsibilities of the director of each research institute established within OERI, making special efforts to identify qualified women and minorities and giving due considerations to recommendations from professional associations and interested members of the public;

(3) Advising and making recommendations to the President with respect to individuals who are qualified to fulfill the responsibilities of the Assistant Secretary for OERI;

(4) Reviewing and commenting upon proposed contract, grant, and cooperative agreement proposals;

(5) Advising the United States on the Federal educational research and development effort;

(6) Recommending ways for strengthening active partnerships among researchers, educational practitioners, librarians, and policymakers;

(7) Recommending ways to strengthen interactions and collaboration between the various program offices and components;

(8) Soliciting advice and information from the educational field, making sure to involve educational practitioners, particularly teachers, in the process, to define research needs and provide suggestions for research topics;

(9) Soliciting advice from practitioners, policymakers, and researchers, and recommending missions for the national research centers which are funded by OERI by identifying topics which require long-term, sustained, systematic, programmatic, and integrated research and dissemination efforts;

(10) Providing recommendations for creating incentives to draw talented young people into the field of educational research, including scholars from disadvantaged and minority groups (Section 921(c) of the Act)

4. Nomination Categories

Nominations are being requested for one outstanding school-based professional educator and two individuals who are knowledgeable about the educational needs of the United States as described under the heading Description of the Board above. The Secretary must give due consideration to the gender, race, and ethnicity of appointees to assure that the Board is broadly representative of the diversity of the United States. (Section 921(f)(2) of the Act).

5. Applicability of Certain Federal Legal Requirements

The Board is subject to Federal legislation (the Federal Advisory Committee Act, 5 U.S.C. App.2; and the Government in the Sunshine Act, 5 U.S.C. 552b), which is designed to ensure that public business is publicly conducted, and that government advisory and policymaking groups are not inappropriately used to advance the private interests of their members. Board members are considered special government employees who are subject to certain government-wide restrictions on conflicts of interest.

6. Nomination Procedures

In order to be assured on consideration, nominations, which include the nominee's name, address, telephone number, and a brief biography, should be mailed or hand delivered no later than April 13, 2001, to Jamie Burke, Office of the Secretary of Education, U.S. Department of Education, Attention: National Educational Research Policy and Priorities Board, 400 Maryland Avenue, SW., Washington, DC 20202-0106.

Dated: March 9, 2001.
Roderick R. Paige,
Secretary, Department of Education.

[FR Doc. 01-6501 Filed 3-14-01; 8:45 am]

BILLING CODE 4000-01-M